DEPARTMENT OF DEFENSE

Office of the Secretary; Submission for OMB Review; Comment Request

ACTION: Notice.

The Department of Defense has submitted to OMB for clearance, the following proposal for collection of information under the provisions of the Paperwork Reduction Act (44 U.S.C. Chapter 35).

Title, Form Number, and OMB Number: DoD Educational Loan Repayment Program (LRP); DD Form 2475; OMB Number 0704-0152.

Type of Request: Extension.

Number of Respondents: 27,000.

Responses Per Respondent: 1.

Annual Responses: 27,000.

Average Burden Per Response: 10 minutes.

Annual Burden Hours: 4,500.

Needs and Uses: Title 10 USC 2171, 16301, and 16302 authorize the Military Services to repay Federal student loans for individuals who meet certain criteria and who enlist for active military service or enter the Selected Reserves for a specified obligation period. Legislation requires that the Services verify the status of the loan prior to payment. The DD Form 2475, DoD Educational Loan Repayment Program (LRP) Annual Application, collects the necessary verification data from lending institutions.

Affected Public: Business or Other For-Profit.

Frequency: Annually.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: April 18, 2000.
Patricia L. Toppings,
Alternate OSD Federal Register, Liaison Officer, Department of Defense.

[FR Doc. 00-10051 Filed 4-21-00; 8:45 am]

BILLING CODE 5001-10-M